GENERAL ACCOUNTING OFFICE

[Document No. JFMIP-SR-03-01]

Joint Financial Management Improvement Program (JFMIP)—Federal Financial Management System Requirements (FFMSR)

AGENCY: Joint Financial Management Improvement Program (JFMIP).

ACTION: Notice of document finalization and posting.

SUMMARY: The JFMIP is seeking announcement of document finalization and posting for the “JFMIP Revenue System Requirements Document” dated January 2003. The document is the first Federal Financial Management System Requirements (FFMSR) document to address standard financial requirements for Federal revenue systems. The document is intended to assist agencies when developing, improving or evaluating revenue systems. It provides the baseline functionality that agency systems must have to support agency missions and comply with laws and regulations. This document augments the existing body of FFMSR that define financial system functional requirements that are used in evaluating compliance with the Federal Financial Management Improvement Act (FFMIA) of 1996.

DATES: For release as soon as possible.

ADDRESSES: The document is available on the JFMIP Web site: www.jfmip.gov.

FOR FURTHER INFORMATION CONTACT: Daniel Costello at daniel.costello@gsa.gov.

SUPPLEMENTARY INFORMATION: The FFMIA of 1996 mandated that agencies implement and maintain systems that comply substantially with FFMSR, applicable Federal accounting standards, and the U.S. Government Standard General Ledger at the transaction level. The FFMIA statute codified the JFMIP financial system requirements documents as a key benchmark that agency systems must meet to substantially comply with systems requirements provisions under FFMIA. To support the provisions outlined in the FFMIA, the JFMIP is updating obsolete requirements documents and publishing additional requirements documents.

An open house is scheduled for February 27, 2003, from 1 to 3 pm in room 5141A of the main GSA building, to provide additional information on the document. The name, organization, telephone number, and e-mail address for attendees should be e-mailed to daniel.costello@gsa.gov to register.

Karen Cleary Alderman,
Executive Director, Joint Financial Management Improvement Program.

[FR Doc. 03-4528 Filed 2-25-03; 8:45 am]

BILLING CODE 1610-02-M